DEPARTMENT OF AGRICULTURE

Forest Service

Notice of Intent To Prepare an Environmental Impact Statement for the Motorized Travel Management, Okanogan-Wenatchee National Forest, Washington: Cancellation

AGENCY: Forest Service, USDA.

ACTION: Cancellation notice.

SUMMARY: On March 24, 2009, a Notice of Intent (NOI) to prepare an environmental impact statement (EIS) for the Motorized Travel Management Project on the Okanogan-Wenatchee National Forest was published in the Federal Register (74 FR 12304-12306). The Forest Service has decided to cancel the preparation of this EIS. The NOI is hereby rescinded.

FOR FURTHER INFORMATION CONTACT: Questions may be addressed to Jennifer Zbyszewski, Recreation Wilderness & Facilities Program Manager, Methow Valley Ranger District, 24 W. Chewuch Road, Winthrop, Washington 98862 (phone: 503-996-4021).

Dated: March 13, 2015.
Jason Kuiken,
Deputy Forest Supervisor.

[FR Doc. 2015-06304 Filed 3-23-15; 8:45 am]

BILLING CODE 3410-11-M